DEPARTMENT OF THE INTERIOR

Bureau of Land Management

(ID-080-1210-DH)

Resource Management Plans; Lemhi Resource Area, ID

AGENCY: Bureau of Land Management, Idaho, Interior.

ACTION: Notice of intent to amend the Lemhi Resource Management Plan (RMP).

SUMMARY: Pursuant to 43 CFR 1600, the Upper Columbia-Salmon Clearwater District, Salmon Field Office—BLM proposes to amend the Lemhi Resource Management Plan (RMP) (BLM 1987) to address the following issues and concerns: (a) Change management of naturally-ignited and management-ignited fires occurring on public lands managed by the Salmon Field Office (formerly the Lemhi Resource Area), (b) more accurately define the location of the Lewis and Clark National Historic Trail (the Trail) corridor, (c) provide additional guidance for management of resources, values, and uses on public lands within the Trail corridor and its surrounding area, and for other areas where visitor use is increasing substantially, and (d) incorporate into the Lemhi RMP approximately 40,000 acres of public lands formerly managed as part of the BLM's Ellis-Pahsimeroi Management Framework Plan. Fire management guidance would apply to approximately 499,566 acres of public lands managed by the Salmon Field Office in Lemhi County, Idaho. Exact locations and acreage of public lands affected by Lewis and Clark Trail management actions and actions applying to other existing special designation areas would be determined during the amendment process. Public lands formerly managed as part of the Ellis-Pahsimeroi MFP include approximately 40,000 acres.

DATES: The BLM will hold public scoping meetings to solicit input and comments from interested persons. The dates, times, and locations of these informational/open-house meetings will be announced through the local media prior to the meetings. To receive maximum consideration, written comments to suggest planning issues, planning criteria, and/or alternatives to be considered in the proposed amendment should be received at the address noted below by April 3, 2000.

ADDRESSES: Written comments should be addressed to Kathe Rhodes, Planning and Environmental Coordinator by mail at Bureau of Land Management, Route 2, Box 610, Salmon, Idaho 83467, or by e-mail at Kathe_Rhodes@blm.gov. Documents related to the proposed amendments may be reviewed at the Salmon BLM Office on Highway 93 South in Salmon, Idaho during normal business hours (7:45 a.m. to 4:15 p.m., Monday through Friday, excluding holidays). Comments, including names and addresses of respondents, will be available for public review at the above address and times, and may be published as part of the environmental assessment or other related documents. Individual respondents may request confidentiality. If you wish to withhold your name or street address from public review or from disclosure under the Freedom of Information Act, you must state this prominently at the beginning of your written comments. Such requests will be honored to the extent allowed by law. All submissions from organizations or businesses, and from individuals identifying themselves as representatives or officials of organizations or businesses, will be made available for public inspection in their entirety.

FOR FURTHER INFORMATION CONTACT: For further information please contact either Kathe Rhodes, Planning and Environmental Coordinator, at (208) 756-5440, or Dave Krosting, Field Office Manager, at (208) 756-5410. Written inquiries may be addressed to either Kathe Rhodes or Dave Krosting at the following address: Bureau of Land Management, Route 2, Box 610, Salmon, Idaho 83467.

SUPPLEMENTARY INFORMATION: The RMP amendment and environmental assessment will be prepared by an interdisciplinary team consisting of Salmon Field Office and Upper Columbia—Salmon Clearwater District staff with expertise in recreation management, visual resources, cultural resources, tribal treaty rights and trust resources, forest resources, fire/landscape ecology, fuels management, wildlife habitat, rangeland management (including noxious/invasive plants), special status species, minerals, transportation/engineering, lands and realty, and other disciplines as appropriate.

Dated: February 11, 2000.
Ted Graf,
Acting District Manager.

[FR Doc. 00-4396 Filed 2-24-00; 8:45 am]

BILLING CODE 4310-GG-M